DEPARTMENT OF THE INTERIOR

Bureau of Land Management

[LLCAN01000 L10200000.XZ0000 14X LXSIOVHD0000]

Notice of Public Meeting: Northern California Resource Advisory Council

AGENCY: Bureau of Land Management, Interior.

ACTION: Notice of Public Meeting.

SUMMARY: In accordance with the Federal Land Policy and Management Act of 1976 (FLPMA), and the Federal Advisory Committee Act of 1972 (FACA), the U. S. Department of the Interior, Bureau of Land Management (BLM) Northern California Resource Advisory Council will meet as indicated below.

DATES: The meeting will be held on Wednesday and Thursday, August 26 and 27, 2015, at the in the conference center of the Oxford Suites, located at 1967 Hilltop Drive, Redding, California. On Aug. 26, the council will convene at 10 a.m., public comments will be taken at 4 p.m. On Aug. 27, members will convene at the Oxford Suites and depart immediately for a field tour to public lands in the Sacramento River Bend Outstanding Natural Area. Members of the public are welcome to attend the meeting and tour however, they must provide their own transportation.

FOR FURTHER INFORMATION CONTACT: Nancy Haug, BLM Northern California District manager, (530) 224-2160; or Joseph J. Fontana, public affairs officer, (530) 252-5332.

SUPPLEMENTARY INFORMATION: The 15-member council advises the Secretary of the Interior, through the BLM, on a variety of planning and management issues associated with public land management in on BLM-administered lands in northern California and far northwest Nevada. At this meeting the RAC will discuss organizational matters and land use planning issues. All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Dated: July 13, 2015.
Dana Wilson,
Acting Deputy State Director, Communications.

[FR Doc. 2015-18036 Filed 7-22-15; 8:45 am]

BILLING CODE 4310-40-P